DEPARTMENT OF THE INTERIOR

Bureau of Ocean Energy Management

[Docket No. BOEM-2024-0011]

Notice of Availability of a Final Environmental Impact Statement for Park City Wind LLC's Proposed New England Wind Farm Offshore Massachusetts, Rhode Island, and New York

AGENCY: Bureau of Ocean Energy Management, Interior.

ACTION: Notice of availability; final environmental impact statement.

SUMMARY: The Bureau of Ocean Energy Management (BOEM) announces the availability of the final environmental impact statement (FEIS) for Park City Wind LLC's (PCW) construction and operations plan (COP) for its proposed New England Wind Farm Project (Project) offshore Massachusetts, Rhode Island, and New York. The FEIS analyzes the potential environmental impacts of the Project as described in the COP (the proposed action) and the alternatives to the proposed action, including the no action alternative. The FEIS will inform BOEM's decision whether to approve, approve with modifications, or disapprove the COP.

ADDRESSES: The FEIS and detailed information about the Project, including the COP, can be found on BOEM's website at: https://www.boem.gov/renewable-energy/state-activities/new-england-wind-formerly-vineyard-wind-south.

FOR FURTHER INFORMATION CONTACT: Lindy Nelson, BOEM Office of Renewable Energy Programs, 45600 Woodland Road, Sterling, Virginia 20166, (571) 789-6485 or lindy.nelson@boem.gov.

SUPPLEMENTARY INFORMATION:

Proposed Action: Park City Wind seeks approval to construct, operate, and maintain a wind energy facility and its associated export cables on the Outer Continental Shelf (OCS) offshore Massachusetts, Rhode Island, and New York. The Project would be developed within the range of design parameters outlined in the New England Wind COP, subject to the applicable mitigation measures.

The Project as proposed in the COP would be developed in two phases. The entire Project would include a combined maximum 130 wind turbine generators (WTGs) and electrical service platforms (ESPs, inter-array and inter-link cables connecting the individual WTGs and ESPs, five offshore export cables (two for phase I and three for phase II), onshore substations and interconnection cables connecting to the existing electrical grid in Massachusetts.

The WTGs, offshore substation, and inter-array cables would be located on the OCS approximately 32 kilometers (km) (20 miles) south of Martha's Vineyard and approximately 38 km (24 miles) southwest of Nantucket, within the area defined by Renewable Energy Lease OCS-A 0534. The Project would be adjacent to the Vineyard Wind 1 (VW1) project (OCS-A 0501). The environmental impact statement (EIS) evaluates the potential to utilize unused positions of the VW1 project that VW1 could reassign to the Project. The offshore export cables would be buried below the seabed surface in the OCS and State of Massachusetts-owned submerged lands. The onshore export cables, substations, and grid connections would be in Barnstable, MA.

Alternatives: BOEM considered 15 alternatives when preparing the draft EIS and carried forward three alternatives for further analysis in the FEIS. These three alternatives include the proposed action, one other action alternative, and the no action alternative. Twelve alternatives were not analyzed in detail because they did not meet the purpose and need for the proposed action or did not meet screening criteria, which are presented in FEIS chapter 2. The screening criteria included consistency with law and regulations; technical and economic feasibility; environmental impacts; and geographic considerations.

Availability of the FEIS: The FEIS, New England Wind COP, and associated information are available on BOEM's website at: https://www.boem.gov/renewable-energy/state-activities/new-england-wind-formerly-vineyard-wind-south. BOEM has distributed digital copies of the FEIS to all parties listed in FEIS appendix M. If you would like a flash drive or paper copy, BOEM will provide one upon request, as long as supplies are available. You may request a flash drive or paper copy of the FEIS by contacting Lindy Nelson at 571-789-6485 or lindy.nelson@boem.gov.

Cooperating Agencies: The following Federal agencies and State governmental entities participated as cooperating agencies under the National Environmental Policy Act in the preparation of the FEIS: Bureau of Safety and Environmental Enforcement; U.S. Environmental Protection Agency; National Marine Fisheries Service; U.S. Army Corps of Engineers; U.S. Coast Guard; U.S. Fish and Wildlife Service; New York Department of State; Massachusetts Office of Coastal Zone Management; and Rhode Island Coastal Resources Management Council.

Consulting Parties: Twenty Federal agencies, Tribal Nations, State governmental entities, and organizations participated as consulting parties under the National Historic Preservation Act. The resolution of adverse effects to historic properties from the Project is recorded in a Memorandum of Agreement signed by the Director of BOEM, the Massachusetts State Historic Preservation Officer, the Advisory Council on Historic Preservation, and other invited and concurring signatories.

Authority: 42 U.S.C. 4231 et seq. (NEPA, as amended) and 40 CFR 1506.6.

Karen Baker,
Chief, Office of Renewable Energy Programs, Bureau of Ocean Energy Management.

[FR Doc. 2024-04303 Filed 2-29-24; 8:45 am]

BILLING CODE 4340-98-P